DEPARTMENT OF THE INTERIOR

Fish and Wildlife Service

Record of Decision for the Final Comprehensive Conservation Plan, Wilderness Stewardship Plan for Cabeza Prieta National Wildlife Refuge in Pima and Yuma Counties, AZ

AGENCY: Fish and Wildlife Service, Interior.

ACTION: Notice of availability of record of decision.

SUMMARY: We, the U.S. Fish and Wildlife Service, announce our decision and availability of the Record of Decision (ROD) for the Final Comprehensive Conservation Plan (CCP), Wilderness Stewardship Plan (WSP) and Environmental Impact Statement (EIS) for Cabeza Prieta National Wildlife Refuge (NWR) in accordance with the National Environmental Policy Act (NEPA) requirements.

ADDRESSES: The ROD and Final CCP/WSP/EIS may be viewed at Cabeza Prieta National Wildlife Refuge Headquarters at 1611 North Second Street, Ajo, Arizona 85321. You may obtain a copy of the ROD at the Planning Division Web site at http://www.fws.gov/southwest/refuges/Plan/completeplans.html or by writing to the following address: U.S. Fish and Wildlife Service, National Wildlife Refuge System, Southwest Region, Planning Division, P.O. Box 1306, Albuquerque, New Mexico 87103.

FOR FURTHER INFORMATION CONTACT: John Slown at (505) 248-7458 or e-mail: john_slown@fws.gov.

SUPPLEMENTARY INFORMATION: We, the U.S. Fish and Wildlife Service, announce our decision and availability of the Record of Decision (ROD) for the Final Comprehensive Conservation Plan (CCP), Wilderness Stewardship Plan (WSP) and Environmental Impact Statement (EIS) for Cabeza Prieta National Wildlife Refuge (NWR) in accordance with 40 CFR 1506.6(b). We completed a thorough analysis of the environmental, social, and economic considerations, which we included in the Final CCP/WSP/EIS. We released the Final CCP/WSP/EIS to the public and published a Notice of Availability in the Federal Register (72 FR, 20132-20133, April 23, 2007). The ROD documents the selection of Alternative D, the Preferred Alternative in the Final CCP/WSP/EIS. The ROD was signed by the Regional Director, U.S. Fish and Wildlife Service, Southwest Region, on July 19, 2007. The CCP/WSP/EIS for the Cabeza Prieta National Wildlife Refuge will provide management guidance for conservation of Refuge resources and public use activities during the next 15 years. Five alternatives and their consequences were described in detail in the Draft and Final Environmental Impact Statements. Under all alternatives the recovery plan for the Sonoran pronghorn would be implemented, wilderness resources would be protected and the Refuge would work cooperatively with the Department of Homeland Security, Customs and Border Patrol, to protect Sonoran Desert resources while securing the Nation's border.

Alternative 1—No Action. No change from present management practices. The No Action alternative is a status quo scenario in which current conditions and trends would continue. This alternative served as the baseline to compare and contrast with the other alternatives. Under existing conditions the Refuge would continue to offer a limited desert bighorn sheep hunt each year in cooperation with the Arizona Game and Fish Department. Refuge staff would continue to maintain and supply supplemental water to existing developed waters in desert bighorn sheep habitat.

Alternative 2—Minimum Intervention. Under this alternative the primary focus of Refuge management is avoidance or limitation of management interventions within Refuge wilderness. Under this alternative, developed wildlife waters in sheep habitat within the Refuge wilderness would not be maintained or supplied with supplemental water. Sonoran pronghorn recovery activities would continue to be implemented, but any new developed waters, forage enhancements or radio collaring capture operations would be restricted to the refuge non-wilderness.

The desert bighorn sheep hunt would also be discontinued. The use of horses by Refuge visitors would be prohibited, visitor party size would be limited to eight individuals and the maximum length of stay would be limited to seven (7) consecutive days. Collecting firewood on the Refuge would be prohibited. Only one vehicle-accessible developed campsite would be retained.

Alternative 3—Restrained Intervention. The theme of this alternative is increased levels of active habitat and wildlife management above that of Alternative 2, with management activities focused on the non-wilderness portion of the Refuge. Under this alternative, the Refuge would supply supplemental water to developed waters in sheep habitat within Refuge wilderness only during periods of severe drought. Sonoran pronghorn recovery activities would continue to be implemented, but any new developed waters, forage enhancements or radio collaring capture operations would be restricted to the Refuge non-wilderness.

The desert bighorn sheep hunt would be continued, but no hunting would be allowed during years of severe drought. The use of horses by Refuge visitors would be allowed subject to special use permit. Visitor party size would be limited to eight individuals and the maximum length of stay would be seven (7) consecutive days. Collecting firewood on the Refuge would be prohibited. Only one vehicle-accesible developed campsite would be retained.

Alternative 4—Active Management (the Service's Preferred Alternative). The theme of this alternative is active intervention, as justifiable, throughout the Refuge to recover the Sonoran pronghorn and maintain a target population level for the Refuge's desert bighorn sheep.

Under this alternative, maintenance and water supply to existing developed waters in sheep habitat within Refuge wilderness would continue and projects to increase the water collection efficiency of such waters would be implemented. Sonoran pronghorn recovery activities and developments would occur wherever determined best suited for species recovery, subject to minimum requirements analysis in wilderness.

The Refuge desert bighorn sheep hunt program would continue unchanged under this alternative. The use of horses by Refuge visitors would be allowed subject to special use permit. Visitor party size would be limited to eight individuals or four vehicles and the maximum length of stay would be fourteen (14) consecutive days. Collecting dead and down firewood would be allowed for visitors traveling in the Refuge backcountry (hiking away from the access roads). Three existing vehicle-accessible developed campsites would be retained.

Alternative 5—Maximum Effort. This alternative focuses on maximizing both the provision of visitor services and Refuge population levels of desert bighorn sheep. Under this alternative all existing developed waters in Refuge wilderness would be maintained and supplied with water, and new developed waters would be created. In addition to developed waters, the Refuge would develop forage enhancements in suitable areas of desert bighorn sheep habitat to provide forage for a larger desert bighorn sheep population.

The desert bighorn sheep hunt program would continue unchanged under this alternative. Horses would be allowed on the Refuge for visitors, restrictions of collection of firewood would be eliminated and two additional developed campsites would be developed along the non-wilderness access roads. No visitor party size limitations would be imposed, and the maximum length of stay would be fourteen (14) consecutive days.

We have selected Alternative 4, the Preferred Alternative, for implementation at the Refuge. Alternative 4 addresses the key issues identified during the planning process and will best achieve the purposes and goals of the Refuge as well as the mission of the National Wildlife Refuge System. This decision includes adoption of Comprehensive Conservation Plan Chapters (Appendix M of the Final CCP/WSP/EIS). Implementation of the CCP will occur over the next 15 years and will depend on future staffing levels and funding.

The Service's Basis for the Decision: Based on a review of the environmental consequences of each alternative, we judged Alternative 4 to be the environmentally preferable alternative. Alternative 4 is also expected to lead to more overall public support and a more appropriate level of public use opportunities than the other alternatives. Alternative 1 was not considered for selection as it describes current management and was presented primarily as a baseline against which to compare the proposed alternatives. Alternatives 2 and 3 were not selected primarily because their spatial restrictions of management activity would likely lead to inefficient and sub-optimal sampling and recovery implementation for the Sonoran pronghorn. Alternative 5 was not selected because its level of management intervention within wilderness to manage a larger population of desert bighorn sheep on the Refuge would create excessive impacts to wilderness character. The increased levels of public use anticipated under Alternative 5 and the absence of any restrictions on firewood collection, visitor horse use and visitor party size would likely create localized adverse impacts to habitat and wildlife populations.

The rationale for choosing the selected alternative as the best alternative for the CCP/WSP/EIS is based on the impact of this alternative on the issues and concerns that surfaced during the planning process. Because all practicable means to avoid or minimize environmental harm have been incorporated into the preferred alternative, no mitigation measures have been identified.

Public Comments on Final CCP/WSP/EIS: During the 30-day waiting period, we received three written comments. The comments did not raise any issues not addressed in the Final CCP/WSP/EIS, and the comments did not result in changes to the analysis of environmental consequences or affect our response to similar comments in the Final EIS. All written comments received during the 30-day waiting period are available for review at the Refuge headquarters in Ajo, Arizona (see ADDRESSES).

Dated: July 19, 2007.
Benjamin N. Tuggle,
Regional Director, U.S. Fish and Wildlife Service, Albuquerque, New Mexico.

[FR Doc. 07-4715 Filed 9-21-07; 8:45 am]

BILLING CODE 4310-55-M